DEPARTMENT OF STATE

[Public Notice: 7304]

60-Day Notice of Proposed Information Collection: DS-10, Birth Affidavit, OMB Control Number 1405-0132

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Birth Affidavit.

• OMB Control Number: 1405-0132.

• Type of Request: Extension of a Currently Approved Collection.

• Originating Office: Bureau of Consular Affairs, CA/PPT/FO/FC.

• Form Number: DS-10.

• Respondents: Individuals or Households.

• Estimated Number of Respondents: 154,850 per year.

• Estimated Number of Responses: 154,850 per year.

• Average Hours per Response: 15 minutes.

• Total Estimated Burden: 38,713 hours.

• Frequency: On Occasion.

• Obligation to Respond: Required to Obtain or Retain a Benefit.

DATES: The Department will accept comments from the public up to 60 days from January 20, 2011.

ADDRESSES: You may submit comments by any of the following methods:

• E-mail: PPTFormsOfficer@state.gov.

• Mail (paper, disk, or CD-ROM submissions): Passport Forms Management Officer, U.S. Department of State, Office of Program Management and Operational Support, 2100 Pennsylvania Avenue, NW., Room 3031, Washington, DC 20037.

You must include the DS form number (if applicable), information collection title, and OMB control number in any correspondence.

FOR FURTHER INFORMATION CONTACT: Direct requests for additional information regarding the collection listed in this notice, including requests for copies of the proposed information collection and supporting documents, to Passport Forms Management Officer, U.S. Department of State, Office of Program Management and Operational Support, 2100 Pennsylvania Avenue, NW., Room 3031, Washington, DC 20037, who may be reached on 202-663-2457 or at PPTFormsOfficer@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Birth Affidavit is submitted in conjunction with an application for a U.S. passport and is used by Passport Services to collect information for the purpose of establishing the citizenship of a passport applicant who has not submitted an acceptable United States birth certificate with his/her passport application.

Methodology: When needed, a Birth Affidavit is completed at the time a U.S. citizen applies for a U.S. passport.

Dated: January 11, 2011.
Brenda Sprague,
Deputy Assistant Secretary for Passport Services, Bureau of Consular Affairs, Department of State.

[FR Doc. 2011-1187 Filed 1-19-11; 8:45 am]

BILLING CODE 4710-06-P